DEPARTMENT OF ENERGY

Federal Energy Regulatory Commission

[Docket No. AD10-11-000]

Frequency Regulation Compensation in the Organized Wholesale Power Markets; Notice of Technical Conference

April 27, 2010.

Take notice that Commission staff will hold a technical conference to elicit input on issues pertaining to Frequency Regulation Compensation in the ISO/RTO Markets. The technical conference will take place on May 26, 2010, from 9 a.m. to 1 p.m. Eastern Time. The conference will be held in the Commission Meeting Room at the Federal Energy Regulatory Commission, 888 First Street, NE., Washington, DC 20426. All interested persons are invited to participate in the conference.

Those interested in speaking at the conference should notify the Commission by May 3, 2010 by completing an online form describing the topics that they will address: https://www.ferc.gov/whats-new/registration/markets-05-26-speaker-form.asp. Due to time constraints, we may not be able to accommodate all those interested in speaking. A detailed agenda, including panel speakers, will be published at a later date.

The technical conference will be transcribed. Transcripts of the conferences will be immediately available for a fee from Ace-Federal Reporters, Inc. (202-347-3700 or 1-800-336-6646). The transcripts will be available for free on the Commission's eLibrary system and on the Calendar of Events approximately one week after the conference.

There is an “eSubscription” link on the Web site that enables subscribers to receive e-mail notification when a document is added to a subscribed docket(s). For assistance with any FERC Online service, please e-mail FERCOnlineSupport@ferc.gov, or call 866-208-3676 (toll free). For TTY, call 202-502-8659.

Commission conferences are accessible under section 508 of the Rehabilitation Act of 1973. For accessibility accommodations, please send an e-mail to accessibility@ferc.gov or call toll free (866)-208-3372 (voice) or (202)-208-1659 (TTY), or send a FAX to (202)-208-2106 with the required accommodations.

For further information about the conference, please contact:

Tatyana Kramskaya (Technical Information), Office of Energy Policy and Innovation, Federal Energy Regulatory Commission, 888 First Street, NE., Washington, DC 20426. (202)-502-6262. Tatyana.Kramskaya@ferc.gov.

Eric Winterbauer (Legal Information), Office of the General Counsel—Energy Markets, Federal Energy Regulatory Commission, 888 First Street, NE., Washington, DC 20426. (202) 502-8329. Eric.Winterbauer@ferc.gov.

Kimberly D. Bose,
Secretary.

[FR Doc. 2010-10356 Filed 5-3-10; 8:45 am]

BILLING CODE 6717-01-P